DEPARTMENT OF ENERGY

Federal Energy Regulatory Commission

[Docket No. EC04-30-000, et al.]

Central Illinois Light Company, et al.; Electric Rate and Corporate Filings

December 2, 2003.

The following filings have been made with the Commission. The filings are listed in ascending order within each docket classification.

1. Central Illinois Light Company d/b/a AmerenCILCO and Ameren Energy Marketing Company

[Docket No. EC04-30-000]

Take notice that on November 25, 2003, Central Illinois Light Company d/b/a AmerenCILCO and Ameren Energy Marketing Company (AEM) (collectively Applicants), submitted an application pursuant to section 203 of the Federal Power Act, and part 33 of the Federal Energy Regulatory Commission regulations, 18 CFR part 33, requesting all Commission authorizations and approvals for the assignment by AmerenCILCO to AEM of certain contracts between AmerenCILCO and various counterparties.

AEM states that copies of this filing have been served on all affected state commissions and also parties to the contracts affected by the transfer.

Comment Date: December 16, 2003.

2. Idaho Power Company

[Docket No. EL99-44-008]

Take notice that on November 24, 2003, Idaho Power Company tendered its compliance filing in the above-captioned docket.

Comment Date: December 24, 2003.

3. Black Hills Ontario, L.L.C.

[Docket Nos. EL04-30-000 and QF84-122-004]

Take notice that on November 26, 2003, Black Hills Ontario, L.L.C. (Black Hills) filed a petition with the Federal Energy Regulatory Commission for recertification of its cogeneration facility as a qualifying facility under § 292.205(a) of the Commission's regulations and limited waiver of the Commission's qualifying cogeneration facility efficiency standard requirement for 2003.

Black Hills states it is a 7.84 MW (average annual net generation) natural gas-fired topping cycle cogeneration facility located at Ontario, California and includes certain transmission interconnection facilities that interconnect the facility with the transmission system of Southern California Edison Company (SCE). Black Hills further states that it sells the electric output of the facility to SCE.

Comment Date: December 26, 2003.

4. Citadel Energy Products LLC

[Docket No. ER02-2339-001]

Take notice that on November 26, 2003, Citadel Energy Products LLC (Citadel) filed an amendment to its tariff to add Appendix A, Market Behavior Rules. Citadel states that with this amendment it satisfies a condition imposed when the tariff originally was accepted by Commission's Letter Order in Docket No. ER02-2339-000 (Aug. 12, 2002). Citadel further states that the text of the amendment is essentially identical to that promulgated by Order issued November 17, 2003, in Docket No. EL01-118-000, 105 FERC ¶61,218.

Comment Date: December 17, 2003.

5. NRG Marketing Services LLC

[Docket No. ER03-955-002]

Take notice that on November 26, 2003, NRG Marketing Services LLC tendered for filing revised tariff sheets to comply with the Federal Energy Regulatory Commission's Order issued November 10, 2003 in the above-referenced docket.

Comment Date: December 17, 2003.

6. Ameren Services Company

[Docket No. ER04-53-001]

Take notice that on November 26, 2003, AmerenEnergy Resources Generating Company (AERG) submitted for filing a Notice of Succession, pursuant to §§ 35.16 and 131.51 of the Commission's regulations. AERG asserts that the purpose of the filing is to amend the Notice of Succession in Docket No. ER04-53-000 by filing the AmerenEnergy Resources Generating Company FERC Electric Tariff, Original Volume No. 1 (Supersedes FERC Central Illinois Generation, Inc. FERC Electric Tariff, Original Volume No. 1).

Comment Date: December 17, 2003.

7. Ameren Services Company

[Docket No. ER04-99-001]

Take notice that on November 26, 2003, Ameren Services Company (ASC) tendered for filing an unexecuted Network Integration Transmission Service and Network Operating Agreement between ASC and Ameren Energy Marketing Company. ASC asserts that the purpose of the filing is to replace the unexecuted Agreements in Docket No. ER04-99-000 with the revised executed Agreements.

Comment Date: December 17, 2003.

8. Ameren Services Company

[Docket No. ER04-100-001]

Take notice that on November 26, 2003, Ameren Services Company (ASC) tendered for filing revised unexecuted Network Integration Transmission Service and Network Operating Agreements between ASC and Ameren Energy Marketing Company. ASC asserts that the purpose of the filing is to replace the unexecuted Agreements in Docket No. ER04-100-000 with the revised executed Agreements.

Comment Date: December 17, 2003.

9. Gulfstream Energy, LLC

[Docket No. ER04-164-000]

Take notice that on December 1, 2003, Gulfstream Energy, LLC, requested a withdrawal of its Notice of Cancellation of market-based rate tariff filed on November 14, 2003, in the above captioned proceeding.

Comment Date: December 15, 2003.

10. Entergy Services, Inc.

[Docket No. ER04-207-001]

Take notice that on November 25, 2003, Entergy Services, Inc., (Entergy) on behalf of the Entergy Operating Companies, tendered for filing an errata filing to correct proposed section 11.3.3.2 as contained in Entergy's November 19, 2003 filing in the above-referenced docket.

Comment Date: December 16, 2003.

11. American Electric Power Service Corporation

[Docket No. ER04-223-000]

Take notice that on November 25, 2003, the American Electric Power Service Corporation (AEPSC) tendered for filing an Amended Interconnection and Operation Agreement between Ohio Power Company and Duke Energy Hanging Rock, LLC. The agreement is pursuant to the AEP Companies' Open Access Transmission Service Tariff (OATT) that has been designated as First Revised Service Agreement No. 315 to the Operating Companies of the American Electric Power System FERC Electric Tariff Third Revised Volume No. 6, effective July 31, 2001. AEP requests an effective date of November 7, 2003.

AEPSC states that a copy of the filing was served upon Duke Energy Hanging Rock, LLC and the Public Utilities Commission of Ohio.

Comment Date: December 16, 2003.

12. PacifiCorp

[Docket No. ER04-224-000]

Take notice that on November 25, 2003, PacifiCorp tendered for filing in accordance with 18 CFR 35 of the Commission's Rules and Regulations a revised Attachment J to its Open Access Transmission Tariff calculating load ratio shares applicable to PacifiCorp's Network Integration Transmission Service Customers.

PacifiCorp states that copies of this filing were supplied to the Public Utility Commission of Oregon, the Washington Utilities and Transportation Commission, and PacifiCorp's Network Customers.

Comment Date: December 16, 2003.

13. Progress Energy on Behalf of Florida Power Corporation

[Docket No. ER04-225-000]

Take notice that on November 25, 2003, Florida Power Corporation (Florida Power) tendered for filing an executed Firm Point-To-Point Transmission Service Agreement with The City of Gainesville Florida d/b/a Gainesville Regional Utilities.

Florida Power states that this Service Agreement is being filed under the terms and conditions of the Open Access Transmission Tariff filed on behalf of Florida Power Corporation.

Florida Power Corporation is requesting an effective date of November 1, 2003 for this Service Agreement. Florida Power Corporation states that a copy of the filing was served upon the North Carolina Utilities Commission and the Florida Public Service Commission.

Comment Date: December 16, 2003.

14. APN Starfirst, LP

[Docket No. ER04-226-000]

Take notice that on November 25, 2003, APN Starfirst, LP (Starfirst) petitioned the Commission for acceptance of Starfirst Rate Schedule FERC No. 1; the granting of certain blanket approvals, including the authority to sell electricity at market-based rates; and the waiver of certain Commission regulations.

Starfirst states that it intends to engage in wholesale electric power and energy purchases and sales as a marketer and is not in the business of generating or transmitting electric power. Starfirst further states that it is a limited partnership engaged primarily in the business of providing energy management services to commercial, industrial, and government entities.

Comment Date: December 16, 2003.

15. Ameren Services Company

[Docket No. ER04-228-000]

Take notice that on November 26, 2003, Ameren Services Company (ASC) tendered for filing Service Agreements for Network Integration Transmission Service and a Network Operating Agreements between ASC and Ameren Energy Marketing Company. ASC asserts that the purpose of the Agreement is to permit ASC to provide transmission service to Customer pursuant to Ameren's Open Access Transmission Tariff.

Comment Date: December 17, 2003.

16. Ameren Services Company

[Docket No. ER04-229-000]

Take notice that on November 26, 2003, Ameren Services Company (ASC) tendered for filing executed Service Agreements for Firm Point-to-Point Service and Non-Firm Point-to-Point Transmission Service between ASC and Exelon Energy Company. ASC asserts that the purpose of the Agreements is to permit ASC to provide transmission service to Exelon Energy Company pursuant to Ameren's Open Access Transmission Tariff.

Comment Date: December 17, 2003.

17. New York Independent System Operator, Inc.

[Docket No. ER04-230-000]

Take notice that on November 26, 2003, the New York Independent System Operator, Inc. (NYISO) tendered for filing revisions to the ISO Market Administration and Control Area Services Tariff proposing a number of tariff revisions associated with the implementation of new Real-Time Scheduling software and related market improvements.

The NYISO states that it has electronically served a copy of this filing on the official representative of each of its customers, on each participant in its stakeholder committees, on the New York Public Service Commission, and on the electric utility regulatory agencies of New Jersey and Pennsylvania. NYISO further states that in addition, the complete filing has been posted on the NYISO's Web site at http://www.nyiso.com and the NYISO will make a paper copy available to any interested party that requests one.

Comment Date: December 17, 2003.

18. Conectiv Bethlehem, LLC

[Docket No. ER04-231-000]

Take notice that on November 26, 2003, Conectiv Bethlehem, LLC (CBLLC), filed its Rate Schedule FERC No. 1, and cost support for its Reactive Supply and Voltage Control from Generation Sources Service to be provided by its 885 MW generating station located in Bethlehem, Pennsylvania, pursuant to section 205 of the Federal Power Act and Schedule 2 of the PJM Interconnection, L.L.C. (PJM) Open Access Transmission Tariff. CBLLC seeks an effective date of January 1, 2004.

CBLLC states that copies of the filing were served upon PJM, PPL Electric Utilities Corporation and the Pennsylvania Public Utility Commission.

Comment Date: December 17, 2003.

19. Constellation Power Source, Inc.

[Docket No. ER04-232-000]

Take notice that on November 26, 2003, Constellation Power Source, Inc. (CPS) tendered for filing, under section 205 of the Federal Power Act, a petition requesting that the Commission: (1) Grant CPS authorization to make wholesale sales of electricity to its affiliated utility, Baltimore Gas and Electric Company (BGE) if it is selected as a winning bidder in the competitive solicitation process approved by the Maryland Public Service Commission (MPSC) to secure wholesale supply for BGE's retail Standard Offer Service obligations; and (2) extend the current waiver of the Commission's code of conduct, and other provisions of CPS' market-based rate tariff, to the extent necessary to effectuate such sales to BGE.

Comment Date: December 17, 2003.

20. Southern California Edison Company

[Docket No. ER04-233-000]

Take notice that on November 26, 2003, Southern California Edison Company (SCE) tendered for filing a Letter Agreement between the City of Moreno Valley (Moreno Valley) and SCE. SCE states that the purpose of the Letter Agreement is to provide an interim arrangement pursuant to which SCE will commence the engineering, design, procurement, and construction of the interconnection facilities and distribution system upgrades required to interconnect Moreno Valley's Cactus Load Project to SCE's Distribution System.

SCE states that copies of this filing were served upon the Public Utilities Commission of the State of California and Moreno Valley.

Comment Date: December 17, 2003.

21. Duke Energy Marketing America, LLC

[Docket No. ER04-234-000]

Take notice that on November 26, 2003, Duke Energy Marketing America, LLC (DEMA) petitioned the Federal Energy Regulatory Commission to amend the Western Systems Power Pool (WSPP) Agreement to include DEMA as a participant. DEMA respectfully requests that the Commission allow the amendment to the WSPP Agreement to become effective on November 27, 2003.

DEMA states that a copy of this filing has been served upon the WSPP Executive Committee Chair, WSPP Operating Committee Chair, WSPP General Counsel, and WSPP Secretary/Treasurer.

Comment Date: December 17, 2003.

22. Florida Power Corporation

[Docket No. ER04-235-000]

Take notice that on November 26, 2003, Florida Power Corporation (FPC) tendered for filing an executed Southwest Landfill Generating Facility Parallel Operation Agreement between FPC and Gainesville Regional Utilities. FPC is requesting an effective date of November 1, 2003 for this Rate Schedule.

FPC states that a copy of the filing was served upon the Florida Public Service Commission and the North Carolina Utilities Commission.

Comment Date: December 17, 2003.

23. Vermont Electric Power Company, Inc.

[Docket No. ER04-236-000]

Take notice that on November 26, 2003, Vermont Electric Power Company, Inc. submitted for filing an Operation and Maintenance Agreement and a Bill-Back Agreement between VELCO and Citizens Communication Company.

Comment Date: December 17, 2003.

24. Virginia Electric and Power Company

[Docket No. ER04-237-000]

Take notice that on November 26, 2003, Virginia Electric and Power Company (Dominion Virginia Power) tendered for filing the following:

A Master Power Purchase & Sale Agreement between Virginia Electric and Power Company and North Carolina Electric Membership Corporation, designated as Service Agreement Number 7, under the Company's Wholesale Cost-Based Rate Tariff, FERC Electric Tariff, Original Volume No. 7, effective on January 16, 2002. Dominion Virginia Power requests an effective date of January 1, 2004 for the Master Power Purchase and Sale Agreement, Amendment 1 of the Master Power Purchase and Sale Agreement, Capacity and System Firm Energy Transaction Confirmation and VA System Confirm-Bridge Transaction Confirmation.

Dominion Virginia Power states that copies of the filing were served upon North Carolina Electric Membership Corporation, the Virginia State Corporation Commission, and the North Carolina Utilities Commission.

Comment Date: December 17, 2003.

25. New England Power Pool

[Docket No. ER04-238-000]

Take notice that on November 26, 2003, the New England Power Pool (NEPOOL) Participants Committee filed revisions to NEPOOL Market Rule 1 to provide greater flexibility for Load Response Resources and to clarify the method for calculating Real-Time Operating Reserve Credits. A January 1, 2004 effective date is requested.

The NEPOOL Participants Committee states that copies of these materials were sent to the NEPOOL Participants and the New England state governors and regulatory commissions.

Comment Date: December 17, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00512 Filed 12-9-03; 8:45 am]

BILLING CODE 6717-01-P